DEPARTMENT OF HOUSING AND URBAN DEVELOPMENT

[Docket No. FR-5913-N-22]

Notice of Proposed Information Collection: The Housing Counseling Federal Advisory Committee Membership Application

AGENCY: Office of the Assistant Secretary for Housing, Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 28, 2016.

ADDRESSES: Interested persons are invited to submit comments regarding this proposal. Comments should refer to the proposal by name and/or OMB Control Number and should be sent to: Colette Pollard, Reports Management Office, QDAM, Department of Housing and Urban Development, 451 7th Street SW., Washington, DC 20410, Room 94176; telephone 202/402-3400 (this is not a toll-free number) or email at Colette.Pollard@hud.gov for a copy of the proposed form(s) or other available information. Persons with hearing or speech impairments may access this number through TTY by calling the toll-free Federal Information Relay Service at (800) 877-8339).

FOR FURTHER INFORMATION CONTACT: Virginia Holman, Housing Program Specialist, Office of Housing Counseling, Office of Outreach and Capacity, U.S. Department of HUD, 600 East Broad Street, Richmond, VA 23219, telephone (804) 822-4911. This is not a toll free number. Persons with hearing or speech impairments may access this number through TTY by calling the tool-free Federal Relay Service at (800-877-8339.

Copies of available documents submitted to OMB may be obtained from Ms. Holman.

SUPPLEMENTARY INFORMATION: This notice informs the public that the Department is submitting the proposed information collection to OMB for review, as required by the Paperwork Reduction Act of 1995 (44 U.S.C. Chapter 35, as amended).

A. Overview of Information Collection

Title of Proposal: Membership Application for the Housing Counseling Federal Advisory Committee.

OMB Control Number: 2502-0606.

Form Number: HUD-90005 HCFAC.

Description of the need for the information and proposed use: The Housing Counseling Federal Advisory Committee (HCFAC) was created under the Dodd-Frank “Expand and Preserve Homeownership through Counseling Act” Public Law 111-203, title XIV, § 1441, July 21, 2010, 124 Stat. 2163 (Act), 42 U.S.C. 3533(g) to provide strategic planning and policy guidance to HUD on housing counseling issues. The Membership Appication will be use to select the members of the HCFAC.

Respondents: (i.e., affected public): Not for profit institutions.

Estimated Number of Respondents: 150.

Estimated Number of Responses: 150.

Frequency of Responses: Occasion or as needed.

Average Hours per Response: 90%.

Total Estimated Burden: 168 hours.

Status of the proposed information collection: This is an existing collection.

B. Solicitation of Public Comment This notice is soliciting comments from members of the public and affected parties concerning the collection of information described in Section A on the following. (1) Whether the proposed collection of information is necessary for the proper performance of the functions of the agency, including whether the information will have practical utility; (2) the accuracy of the agency's estimate of the burden of the proposed collection of information; (3) ways to enhance the quality, utility, and clarify of the information to be collected; and (4) ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 19, 2016.
Janet M. Golrick,
Associate General Deputy Assistant Secretary for Housing, Associate Deputy Federal Housing Commissioner.

[FR Doc. 2016-20697 Filed 8-26-16; 8:45 am]

BILLING CODE 4210-67-P